DEPARTMENT OF DEFENSE

[DoD-2006-OS-0102]

Office of the Inspector General; Privacy Act of 1974; System of Records

AGENCY: Office of the Inspector General, DoD.

ACTION: Notice to alter a system of records.

SUMMARY: The Office of the Inspector General (OIG) is altering a system of records to its existing inventory of record systems subject to the Privacy Act of 1974 (5 U.S.C. 552a), as amended.

DATES: The changes will be effective on June 30, 2006 unless comments are received that would result in a contrary determination.

ADDRESSES: Send comments to Chief, FOIA/BA Office, Inspector General, Department of Defense, 400 Army Navy Drive, Room 201, Arlington, VA 22202-4704.

FOR FURTHER INFORMATION CONTACT: Mr. Darryl R. Aaron at (703) 604-9785.

SUPPLEMENTARY INFORMATION: The Office of the Inspector General notices for systems of records subject to the Privacy Act of 1974 (5 U.S.C. 552a), as amended, have been published in the Federal Register and are available from the address above.

The proposed systems reports, as required by 5 U.S.C. 552a(r) of the Privacy Act of 1974, as amended, were submitted May 23, 2006 to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: May 24, 2006.
L.M. Bynum,
OSD Federal Register Liaison Officer, Department of Defense.

CIG-04

System name:

Case Control System—Investigative (February 22, 1993, 58 FR 10213).

Changes:

* * * * *

System location:

Delete entry and replace with: “Primary location: Office of the Inspector General, Department of Defense, Office of the Deputy Inspector General for Investigations, Defense Criminal Investigative Service (DCIS), 400 Army Navy Drive, Arlington, VA 22202-4704.

Decentralized locations: Office of the Deputy Inspector General for Investigations/Defense Criminal Investigative Service Field Offices, Resident Agencies, and Posts of Duty have temporary control over portions of the records.”

Categories of individuals covered by the system:

Delete entry and replace with: “Any person or activity which is or has been the subject of an OIG investigation.”

Categories of records in the system:

Delete entry and replace with: “The file is composed of records of investigations to include Reports of Investigation, Information Reports and Case Summaries, which are being or have been conducted by the OIG.”

* * * * *

Purpose(s):

Delete entry and replace with: “The file contains open and closed case listings used to manage investigations, to produce statistical reports, and to control various aspects of the investigative process. Users are OIG employees. Used to determine the existence, location, and status of cases, control workload, and to prepare statistical reports. The records in this system are used for the following purposes: Suitability, loyalty, eligibility, and general trustworthiness of individuals for access or continued access to classified information and suitability for access to government facilities or industrial firms engaged in government projects/contracts; contractor responsibility and suspension/debarment determinations; suitability for awards or similar benefits; use in current law enforcement investigation or program of any type; use in judicial or adjudicative proceedings including litigation or in accordance with a court order; to identify offenders, to provide facts and evidence upon which to base prosecution, to provide information to other investigative elements of the Department of Defense having jurisdiction over the substance of the allegations or a related investigative interest in criminal law enforcement investigations including statutory violations, counter-intelligence, counter-espionage and counter-terrorist activities and other security matters; to effect corrective administrative action and to recover money and property which has been wrongfully used or misappropriated; to make statistical evaluations and reports; to make decisions affecting personnel actions concerning members of the Armed Forces and/or Federal employees; and to respond to other complaint investigations and congressional inquires as appropriate.”

Routine uses of records maintained in the system, including categories of users and the purposes of such uses:

Delete entry and replace with: “In addition to those disclosures generally permitted under 5 U.S.C. 552a(b) of the Privacy Act, these records or information contained therein may specifically be disclosed outside the DoD as a routine use pursuant to 5 U.S.C. 552a(b)(3) as follows:

To the U.S. Secret Service in conjunction with the protection of persons under its jurisdiction.

To other Federal, State, or local agencies having jurisdiction over the substance of the allegations or a related investigative interest in criminal law enforcement investigations including statutory violations, counter-intelligence, counter-espionage and counter-terrorist activities and other security matters.

To other Federal Inspector General offices, the President's Council on Integrity and Efficiency, and/or other Federal law enforcement agencies for the purpose of coordinating and conducting administrative inquiries and civil and criminal investigations, or when responding to such offices, Council, and agencies in connection with the investigation of potential violations of law, rule, and/or regulation.

To other Federal Inspector General offices, the President's Council on Integrity and Efficiency, and/or the Department of Justice for purposes of conducting external reviews to ensure that adequate internal safeguards and management procedures continue to exist within the Office of the Inspector General of the Department of Defense.

The ‘Blanket Routine Uses’ set forth at the beginning of the OIG's compilation of systems of records notices also apply to this system.”

* * * * *

Retention and disposal:

Delete entry and replace with: “Electronic records are retained indefinitely for statistical purposes. Paper records are destroyed after one year.”

System manager(s) and address:

Delete entry and replace with: “Office of the Deputy Inspector General for Investigations, Defense Criminal Investigative Service, 400 Army Navy Drive, Arlington, VA 22202-4704.”

* * * * *

Notification procedure:

Delete entry and replace with: “Individuals seeking to determine whether information about themselves is contained in this system should address written inquiries to the Freedom of Information Act Requester Service Center/Privacy Act Office, 400 Army Navy Drive, Arlington, VA 22202-4704.

Written request should contain the individual's full name (including former names and aliases), date and place of birth, Social Security Number, current home address, telephone number and the request must be signed.”

Record access procedures:

Delete entry and replace with: “Individuals seeking access to information about themselves contained in this system should address written inquiries to the Freedom of Information Act Requester Service Center/Privacy Act Office, 400 Army Navy Drive, Arlington, VA 22202-4704.

Written request should contain the individual's full name (including former names and aliases), date and place of birth, Social Security Number, current home address, telephone number and the request must be signed.”

Record source categories:

Delete entry and replace with “OIG System Administrators.”

* * * * *

CIG-04

System name:

Case Control System—Investigative.

System location:

Primary location: Office of the Inspector General, Department of Defense, Office of the Deputy Inspector General for Investigations, Defense Criminal Investigative Service (DCIS), 400 Army Navy Drive, Arlington, VA 22202-4704.

Decentralized locations: Office of the Deputy Inspector General for Investigations/Defense Criminal Investigative Service Field Offices, Resident Agencies, and Posts of Duty have temporary control over portions of the records.

Categories of individuals covered by the system:

Any person or activity which is or has been the subject of an OIG investigation.

Categories of records in the system:

The file is composed of records of investigations to include Reports of Investigation, Information Reports and Case Summaries, which are being or have been conducted by the OIG.

Authority for maintenance of the system:

Inspector General Act of 1978, (Pub. L. 452), as amended; and DoD Directive 5106.1.

Purpose(s):

The file contains open and closed case listings used to manage investigations, to produce statistical reports, and to control various aspects of the investigative process. Users are OIG employees. Used to determine the existence, location, and status of cases, control workload, and to prepare statistical reports. The records in this system are used for the following purposes: Suitability, loyalty, eligibility, and general trustworthiness of individuals for access or continued access to classified information and suitability for access to government facilities or industrial firms engaged in government projects/contracts; contractor responsibility and suspension/debarment determinations; suitability for awards or similar benefits; use in current law enforcement investigation or program of any type; use in judicial or adjudicative proceedings including litigation or in accordance with a court order; to identify offenders, to provide facts and evidence upon which to base prosecution, to provide information to other investigative elements of the Department of Defense having jurisdiction over the substance of the allegations or a related investigative interest in criminal law enforcement investigations including statutory violations, counter-intelligence, counter-espionage and counter-terrorist activities and other security matters; to effect corrective administrative action and to recover money and property which has been wrongfully used or misappropriated; to make statistical evaluations and reports; to make decisions affecting personnel actions concerning members of the Armed Forces and/or federal employees; and to respond to other complaint investigations and congressional inquires as appropriate.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the U.S. Secret Service in conjunction with the protection of persons under its jurisdiction.

To other Federal, State, or local agencies having jurisdiction over the substance of the allegations or a related investigative interest in criminal law enforcement investigations including statutory violations, counter-intelligence, counter-espionage and counter-terrorist activities and other security matters.

To other Federal Inspector General offices, the President's Council on Integrity and Efficiency, and/or other Federal law enforcement agencies for the purpose of coordinating and conducting administrative inquiries and civil and criminal investigations, or when responding to such offices, Council, and agencies in connection with the investigation of potential violations of law, rule, and/or regulation.

To other Federal Inspector General offices, the President's Council on Integrity and Efficiency, and/or the Department of Justice for purposes of conducting external reviews to ensure that adequate internal safeguards and management procedures continue to exist within the Office of the Inspector General of the Department of Defense.

The “Blanket Routine Uses” set forth at the beginning of the OIG's compilation of systems of records notices also apply to this system.

Policies and practices for storing, retrieving, accessing, retaining, and disposing of records in the system:

Storage:

Paper records and automated data system.

Retrievability:

By name, Social Security Number, military service number or case control number and complete text retrieval by single word or word groups for some records.

Safeguards:

Files are maintained in locked cabinets accessible only to those with an official need-to-know and electronic data system is pass word protected.

Retention and disposal:

Electronic records are retained indefinitely for statistical purposes. Paper records are destroyed after one year.

System manager(s) and address:

Office of the Deputy Inspector General for Investigations, Defense Criminal Investigative Service, 400 Army Navy Drive, Arlington, VA 22202-4704.

Notification procedure:

Individuals seeking to determine whether information about themselves is contained in this system should address written inquiries to the Freedom of Information Act Requester Service Center/Privacy Act Office, 400 Army Navy Drive, Arlington, VA 22202-4704.

Written request should contain the individual's full name (including former names and aliases) date and place of birth, Social Security Number, current home address, telephone number and the request must be signed.

Record access procedures:

Individuals seeking access to information about themselves contained in this system should address written inquiries to the Freedom of Information Act Requester Service Center/Privacy Act Office, 400 Army Navy Drive, Arlington, VA 22202-4704.

Written request should contain the individual's full name (including former names and aliases) date and place of birth, Social Security Number, current home address, telephone number and the request must be signed.

Contesting record procedures:

The OIG's rules for accessing records and for contesting contents and appealing initial agency determinations are published in 32 CFR part 312 or may be obtained from the system manager.

Record source categories:

OIG System Administrators.

Exemptions claimed for the system:

Portions of this system may be exempt pursuant to 5 U.S.C. 552(j)(2), as applicable.

An exemption rule for this record system has been promulgated in accordance with the requirements of 5 U.S.C. 553(b)(1), (2), and (3), (c) and (e) and published in 32 CFR part 312. For additional information contact the system manager.

[FR Doc. 06-4959 Filed 5-30-06; 8:45 am]

BILLING CODE 5001-06-M